POSTAL SERVICE

39 CFR Part 111

Refunds and Exchanges

AGENCY: Postal Service.

ACTION: Proposed rule.

SUMMARY: The Postal Service is proposing to amend the Domestic Mail Manual (DMM) to clarify the policy on unused meter stamps. We are also proposing to add policies for refunds for postage and fees paid by information-based indicia (IBI); refunds of valid, unused IBI; and refunds of the remaining balance on a postal security device (PSD) that is surrendered and withdrawn from service.

DATES: We must receive comments on or before November 28, 2000.

ADDRESSES: Mail or deliver written comments to the Manager, Postage Technology Management, USPS Headquarters, 475 L'Enfant Plaza SW, Room 8430, Washington DC 20260-2444. You can view and make copies of all written comments at this address for inspection and photocopying between 9 a.m. and 4 p.m., Monday through Friday.

FOR FURTHER INFORMATION CONTACT: Nicholas S. Stankosky, 202-268-5311.

SUPPLEMENTARY INFORMATION: We have submitted a proposal to add regulations to the Domestic Mail Manual (DMM) regarding postage paid by information-based indicia (IBI). This proposed rule defines the regulations associated with refund requests for such postage, and clarifies regulations for refunds for unused meter stamps.

List of Subjects in 39 CFR Part 111

Administrative practice and procedure, Postal Service.

Although exempt from the notice and comment requirements of the Administrative Procedure Act (5 U.S.C. 553(b), (c)) regarding proposed rule making by 39 U.S.C. 410(a), the Postal Service invites public comments on the following proposed amendments to the Domestic Mail Manual, incorporated by reference in the Code of Federal Regulations. See 39 CFR part 111.

PART 111—[AMENDED]

1. The authority citation for 39 CFR Part 111 continues to read as follows:

Authority: 5 U.S.C. 552(a); 39 U.S.C. 101, 401, 403, 404, 3001-3011, 3201-3219, 3403-3406, 3621, 3626, 5001.

2. Amend the following sections of the Domestic Mail Manual as set forth below:

P POSTAGE AND PAYMENT METHODS

P000 Basic Information

P010 General Standards

* * * * *

P014 Refunds and Exchanges

* * * * *

2.0 POSTAGE AND FEES REFUNDS

[Replace current 2.1 with new 2.1 to correct references in 2.1.b and to add 2.1.c (subsequent sections are renumbered) on refunds for postage paid by information-based indicia (IBI) to read as follows:]

2.1 Refund Standards

A refund for postage and fees may be made under:

a. The standards below if postage and special or retail service fees are paid and no service is rendered, or if the amount collected was more than the lawful rate.

b. 3.0 for refund requests made at a time other than the time of mailing for refunds for postage and fees paid by meter impressions, refunds of unused meter impressions, and unused units set in meters.

c. 4.0 for refund requests made at a time other than the time of mailing for refunds for postage and fees paid by information-based indicia (IBI), refunds of valid, unused IBI, and refund of the remaining balance on a postal security device (PSD) that is surrendered and withdrawn from service.

d. 5.0 for refund requests for postage made at the time of mailing.

e. P021 for rejected personalized envelopes.

* * * * *

[Revise 2.5 to clarify the refund policy for meter stamps, to read as follows:]

2.5 Refunds for Meter Stamps

A refund for complete and legible unused meter stamps is made when they are submitted within 1 year from the dates shown on the stamps. The Postal Service charges a fee of 10 percent if the face value of the stamps is $250 or less. If the face value is more than $250, the service fee charged is $10 per hour for the actual hours needed to process the refund, with a minimum charge of $25.

[Add new 2.6 (subsequent sections are renumbered) to read as follows:]

2.6 Refunds for Information-Based Indicia (IBI)

A refund for complete and legible valid, unused IBI on unmailed envelopes or labels is made when they are submitted to the authorized provider within 10 days from the date of mailing shown in the indicia. The provider may charge a service fee of no more than 10 percent of the face value of the IBI.

* * * * *

[Replace current 2.8 and 2.9 with new 2.9 and 2.10 to add references to postage evidencing systems that print information-based indicia to read as follows:]

2.9 Applying for Refund

Except for refunds for unused IBI and unused postage value remaining on a postal security device (see 4.0), the customer must apply for a refund on Form 3533, Application and Voucher for Refund of Postage and Fees, submitted to the postmaster, and must provide the envelope, wrapper, or a part of it showing the names and addresses of the sender and addressee, canceled postage and postal markings, or other evidence of postage and fees paid for which the refund is requested. For IBI, the product service provider processes requests for refunds.

2.10 Ruling on Refund Request

Except for refunds for IBI under 2.6, the local postmaster grants or denies other requests for refunds under 2.0. The customer may appeal an adverse decision through the postmaster to the RCSC. A mailer's request for a refund for an Optional Procedure (OP) mailing must be submitted to the RCSC manager.

For IBI, the product service provider grants or denies requests for refunds (see 4.0). The registered user may appeal an adverse decision through the manager of Postage Technology Management (PTM), USPS Headquarters.

* * * * *

[Add new 4.0 (subsequent sections are renumbered) to read as follows:]

4.0 REFUND REQUEST FOR INFORMATION-BASED INDICIA (IBI)

4.1 Unused Postage Value Remaining on a Postal Security Device (PSD)

The unused postage value remaining on a postal security device (PSD) that is surrendered and withdrawn from service can be refunded. The registered user must notify the product service provider of the intent to withdraw the PSD. The refund will be issued through the registered user's provider. To determine the remaining postage value on the PSD, the registered user has the postage evidencing system generate a refund request indicium for transmittal to the provider for verification. A refund can be issued only when the PSD is in the provider's possession. If the PSD is withdrawn from service for faulty or misregistering operation, a final postage adjustment or refund may be withheld pending the product service provider's report to the Postal Service of the cause of the faulty operation. If the PSD is damaged, postage is refunded only if the registers are legible, or can be reconstructed by the provider.

4.2 Unused Information-Based Indicia (IBI)

Unused IBI are considered for refund only if they are complete, legible, and valid, and are submitted to the authorized provider for verification with Postal Service Form 3533-PCP-X, Refund Request for Unused IBI Postage, within 10 days of the date of mailing shown in the indicia. Form 3533-PCP-X lists the indicia submitted for refund and must be signed and dated by the registered user. In support of the refund request, IBI printed on an envelope or wrapper are submitted with the part of the envelope or wrapper showing the addressee's name and address (including the window in a window envelope). For IBI printed on a label that is not affixed to an envelope or wrapper, the complete label is submitted loose. The registered user shall use the U.S. mail to send the unused postage to the provider.

4.3 Rounding

Any fraction of a cent in the total to be refunded is rounded in favor of the USPS (e.g., $4.187 is rounded to $4.18).

* * * * *

Appropriate amendments to 39 CFR part 111 to reflect these changes will be published if the proposal is adopted.

Dated:
Stanley F. Mires,
Chief Counsel, Legislative.

[FR Doc. 00-25091 Filed 9-28-00; 8:45 am]

BILLING CODE 7710-12-U